DEPARTMENT OF ENERGY

Federal Energy Regulatory Commission

[Docket No. ER01-2493-002, et al.]

Central Maine Power Company, et al.; Electric Rate and Corporate Regulation Filings

February 21, 2002.

Take notice that the following filings have been made with the Commission. Any comments should be submitted in accordance with Standard Paragraph E at the end of this notice.

1. Central Maine Power Company

[Docket No. ER01-2493-002]

Take notice that on February 19, 2002, in compliance with the Commission's order issued in this proceeding on January 4, 2002, Central Maine Power Company (CMP) filed a report summarizing the refunds recently paid to its wholesale customers. Such refunds are due to implementation of the settlement agreement filed and accepted in this docket.

Comment Date: March 12, 2002.

2. TEC Trading, Inc.

[Docket Nos. ER01-2783-002, ER01-2783-003]

Take notice that on February 7, 2002, TEC Trading, Inc., f/k/a ODEC Power Trading, Inc. (TEC) filed with the Federal Energy Regulatory Commission (Commission) a compliance filing (Docket No. ER01-2783-002), and on February 19, 2002 filed an amended compliance filing (Docket No. ER01-2783-003), each in response to the Commission's Order granting its application for blanket authority to sell wholesale power at market-based rates. TEC's compliance filing is filed pursuant to Section 205 of the Federal Power Act and Rules 205 and 207 of Commission's rules of Practice and Procedure, 18 CFR 385.205 and 385.207.

Comment Date: March 12, 2002.

3. Mirant Delta, LLC, Mirant Potrero, LLC

[Docket No. ER02-198-003]

Take notice that on February 15, 2002, Mirant Delta, LLC submitted for filing certain limited errata to its October 31, 2001 filing in the captioned docket.

Comment Date: March 8, 2002.

4. Reliant Energy Desert Basin, LLC

[Docket No. ER02-310-002]

Take notice that on February 19, 2002, pursuant to the letter order issued in the captioned docket on January 11, 2002, Reliant Energy Desert Basin, LLC (RE Desert Basin) submitted to the Federal Energy Regulatory Commission a revised filing of an umbrella service agreement under RE Desert Basin's FERC Electric Tariff, Original Volume No. 1, with the service agreement properly designated as required by Order No. 614.

Comment Date: March 12, 2002.

5. Duke Energy Southaven, LLC

[Docket No. ER02-583-001]

Take notice that on February 19, 2002, Duke Energy Southaven, LLC filed a notice of status change with the Federal Energy Regulatory Commission in connection with the pending change in upstream control of Engage Energy America LLC and Frederickson Power L.P. resulting from a transaction involving Duke Energy Corporation and Westcoast Energy Inc.

Copies of the filing were served upon all parties on the official service list compiled by the Secretary of the Federal Energy Regulatory Commission in these proceedings.

Comment Date: March 12, 2002.

6. Central Hudson Gas & Electric Corporation

[Docket No. ER02-1018-000]

Take notice that on February 14, 2002, Central Hudson Gas & Electric Corporation (Central Hudson), tendered for filing proposed changes in its Rate Schedule FERC No. 202 which sets forth the terms and charges for substation service provided by Central Hudson to Consolidated Edison Company of New York, Inc.

Central Hudson requests waiver on the notice requirements set forth in 18 CFR 35.11 of the Regulations to permit charges to become effective January 1, 2001 as agreed to by the parties. Central Hudson states that a copy of its filing was served on Con Edison and the State of New York Public Service Commission.

Comment Date: March 7, 2002.

7. Progress Energy on behalf of Florida Power Corporation

[Docket No. ER02-1019-000]

Take notice that on February 14, 2002, Florida Power Corporation (FPC) tendered for filing a Service Agreement for Firm Point-to-Point Transmission Service with Reliant Energy Services, Inc. Service to this Eligible Customer will be in accordance with the terms and conditions of the Open Access Transmission Tariff filed on behalf of FPC.

FPC is requesting an effective date of March 31, 2002 for this Service Agreement. A copy of the filing was served upon the Florida Public Service Commission and the North Carolina Utilities Commission.

Comment Date: March 7, 2002.

8. Pacific Gas and Electric Company

[Docket No. ER02-1020-000]

Take notice that on February 14, 2002, Pacific Gas and Electric Company (PG&E) tendered for filing three agreements entitled Wholesale Distribution Tariff Service Agreement (WDT Service Agreement), Generator Interconnection Agreement (GIA) and Generation Operating Agreement (GOA) (collectively, Agreements) with West Contra Costa Energy recovery Company (WCCERC), submitted pursuant to the PG&E Wholesale Distribution Tariff (WDT).

The Agreements provide the terms and conditions for the interconnection and parallel operation of WCCERC's generating facility with PG&E's electric system and for the ownership, operation and maintenance of the existing facilities, and establish operating responsibilities and procedures for communications and safe work practices. PG&E has requested certain waivers.

Copies of this filing have been served upon WCCERC, the California Independent System Operator Corporation and the California Public Utilities Commission.

Comment Date: March 7, 2002.

9. Ontario Energy Trading International Corp.

[Docket No. ER02-1021-000]

Take notice that on February 14, 2002, Ontario Energy Trading International Corp. (Ontario Energy), tendered for filing an application for an order accepting its FERC Electric Tariff No. 1, which will permit Ontario Energy to make wholesale sales of electric power at market rates.

Comment Date: March 7, 2002.

10. Green Country Energy, LLC

[Docket No. ER02-1022-000]

Notice that on February 14, 2002, Green Country Energy, LLC (Green Country) tendered for filing with the Federal Energy Regulatory Commission (Commission) under its market-based rate tariff a long-term service agreement between Green Country and PECO Energy Company and an assignment of that agreement to Exelon Generating Company, LLC . By letter dated February 15, Green Country requests confidential treatment of its filing, pending the Commission's decision in Southern Company Services, Inc., Docket No. ER00-2998-000, et al., reh'g pending.

Comment Date: March 7, 2002.

11. Public Service Electric and Gas Company

[Docket No. ER02-1030-000]

Take notice that on February 15, 2002, pursuant to Section 205 of the Federal Power Act, Public Service Electric and Gas Company (PSE&G) filed with the Federal Energy Regulatory Commission (Commission) an amendment to PSE&G Tariff No. 111 concerning frequency conversion services, and related transmission services, performed by PSE&G for PECO Energy Company (PECO). PSE&G states that the amendment, dated as of January 30, 2002, settles areas of dispute between the companies concerning terms and conditions of service under their existing January 12, 1932 agreement, amended as of October 21, 1982, and increases rates for the services provided. PSE&G has requested a retroactive effective date for the January 30, 2002 amendment, of September 1, 2000, based upon the date that PSE&G and PECO reached an agreement in principle concerning the basic terms of the amendment.

Comment Date: March 8, 2002.

12. Commonwealth Edison Company

[Docket No. ER02-1031-000]

Take notice that on February 15, 2002, Commonwealth Edison Company (ComEd) submitted for filing an executed Service Agreement for Network Integration Transmission Service (NSA) and the associated executed Network Operating Agreement (NOA) between ComEd and Exelon Generation Company, LLC (Exelon). These agreements govern ComEd's provision of network service to serve retail load under the terms of ComEd's Open Access Transmission Tariff (OATT). The executed NSA and associated executed NOA replace the unexecuted NSA and unexecuted NOA between ComEd and Exelon which were previously filed with the Commission on March 29, 2001, designated as Docket No. ER01-1645-000, and accepted for filing on May 4, 2001.

ComEd requests an effective date of March 1, 2001 for both the executed NSA and the associated executed NOA, which is the same effective date that ComEd requested and was granted by the Commission for the unexecuted NSA and associated unexecuted NOA with Exelon filed in Docket No. ER01-1645-000. Accordingly, ComEd requests waiver of the Commission's notice requirements. A copy of this filing was served on Exelon.

Comment Date: March 8, 2002.

13. Commonwealth Edison Company

[Docket No. ER02-1032-000]

Take notice that on February 15, 2002, Commonwealth Edison Company (ComEd) submitted for filing an executed Service Agreement for Short-Term Firm Point-to-Point Transmission Service (Service Agreement) and the associated executed Dynamic Scheduling Agreement (DSA) with Exelon Generation Company, LLC (Exelon) under ComEd's Open Access Transmission Tariff (OATT). The executed Service Agreement and associated executed DSA replace the unexecuted Service Agreement and unexecuted DSA between ComEd and Exelon which were previously filed with the Commission on January 31, 2002, designated as Docket No. ER02-934-000.

ComEd requests an effective date of February 1, 2002 for both the executed Service Agreement and the associated executed DSA, which is the same effective date that ComEd requested for the unexecuted Service Agreement and associated unexecuted DSA with Exelon filed in Docket No. ER02-934-000. Accordingly, ComEd requests waiver of the Commission's notice requirements. A copy of this filing was served on Exelon.

Comment Date: March 8, 2002.

14. FirstEnergy Solutions Corp.

[Docket No. ER02-1033-000]

Take notice that on February 15, 2002, FirstEnergy Solutions Corp. (FE Solutions) submitted for informational purposes a First Revised Service Agreement No. 3 under FE Solutions' market-based rate power sales tariff, FirstEnergy Solutions Corp., FERC Electric Tariff, Original Volume No. 1.

Comment Date: March 8, 2002.

15. The Detroit Edison Company

[Docket No. ER02-1034-000]

Take notice that on February 15, 2002, The Detroit Edison Company (Detroit Edison) tendered for filing Service Agreements for wholesale power sales transactions (Service Agreements) under Detroit Edison's Wholesale Power Sales Tariff (WPS-2), FERC Electric Tariff No. 3 (WPS-2 Tariff) between Detroit Edison and the following parties: Ameren Energy, Inc.; Energy International; Energy USA-TPC Corp.; and Florida Power Corporation.

Comment Date: March 8, 2002.

16. Entergy Services, Inc.

[Docket No. ER02-1035-000]

Take notice that on February 15, 2002, Entergy Services, Inc., on behalf of Entergy Arkansas, Inc., tendered for filing a unilaterally executed Interconnection and Operating Agreement with AES River Mountain L.P. (AES), and a Generator Imbalance Agreement with AES.

Comment Date: March 8, 2002.

Standard Paragraph

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-4753 Filed 2-27-02; 8:45 am]

BILLING CODE 6717-01-P